DEPARTMENT OF THE INTERIOR

Bureau of Land Management

[ES-020-06-1320-EL]

Notice of Availability of the Environmental Assessment and Public Hearing for Coal Lease by Application KYES-50213

AGENCY: Bureau of Land Management, Interior.

ACTION: Notice of availability of the Chas Coal LLC lease by application KYES-50213 environmental assessment and Federal coal notice of public hearing, and request for Environmental Assessment, Maximum Economic Recovery, and Fair Market Value comments.

SUMMARY: The Bureau of Land Management, Eastern States Office, Springfield, Virginia, hereby gives notice that an Environmental Assessment (EA) is available and a public hearing will be held to lease Federal coal pursuant to 43 Code of Federal Regulations (CFR) 3425.4. The EA analyzes and discloses direct, indirect, and cumulative environmental impacts of issuing competitively a Federal coal lease for 314.53 acres in the Daniel Boone National Forest (DBNF) Clay County, Kentucky. The purpose of the public hearing is to solicit comments from the public on (1) The proposal to issue a Federal coal lease; (2) the proposed competitive lease sale; (3) the Fair Market Value (FMV) of the Federal coal; and (4) Maximum Economic Recovery (MER) of the Federal coal included in the tracts.

DATES: Written comments must be post-marked by March 13, 2006 and provided to the BLM Jackson Field Office (listed below). The public hearing will be held at the Clay County Public Library on February 27, 2006 at 6 pm.

ADDRESSES: Written comments should be addressed to the Bureau of Land Management, Jackson Field Office, 411 Briarwood, Suite 404, Jackson, MS 39206 where copies of the EA are available upon request or for inspection. The public hearing will be held on February 27, 2006 at 6 p.m. at the Clay County Public Library located at 211 Bridge Street, in Manchester, Kentucky.

FOR FURTHER INFORMATION CONTACT: Stuart Grange, Bureau of Land Management, Jackson, Mississippi 39206, at (601) 977-5400.

SUPPLEMENTARY INFORMATION: On December 3, 1998 Chas Coal LLC submitted a lease by application serialized as KYES-50213. The coal in the LBA is to be developed by conventional underground methods. The tracts, designated 545b and 3094 Parcel 1 and Parcel 2 in the National Forest System, are located on the upper end of the Left Fork of Blue Hole Creek in southern Clay County on the DBNF and encompass 314.53 acres. Estimated recoverable federal reserves of bituminous coal from the Hazard No. 8 seam are 792,335 tons. The proximate analysis of the coal is as follows: 14,033 BTU/lb. with 2.12% moisture, 0.87 sulfur, 5.03 ash, 54.26 fixed carbon, and 38.58 volatile matter.

The EA consists of an analyst of environmental impacts that could result from leasing Federal coal and the alternatives. In accordance with the Federal coal management regulations 43 CFR 3422 and 3425, not less than 30 days prior to the publication of a notice of sale, the Secretary shall solicit public comments on the EA, FMV and MER of the tracts proposed to be offered for lease and on factors that may affect FMV and MER. In addition, notice is also given that a public hearing will be held on (insert hearing date) requesting comments on the EA, FMV, and MER.

Procedures for leasing Federal coal are provided by 43 CFR 3400. The United States Department of Agriculture Forest Service (lead agency) the Bureau of Land Management-Eastern States' Jackson Field Office, the U.S. Department of the Interior Office of Surface Mining, and the Kentucky Department of Surface Mining Reclamation and Enforcement, cooperative agencies, prepared a Land Use Analysis and Environmental Assessment (LUA/EA) to address coal lease application KYES-50213. The DBNF, Redbird Ranger District mailed scoping letters to all individuals on the district mailing list requesting public input on the LUA/EA in 1999, and again on May 28, 2004. Public Notices requesting input concerning this tract was published in the Manchester Enterprise, Manchester, Kentucky, on June 3, 2004, and June 10, 2004, and on the DBNF web site. The DBNF signed a Decision Record consenting to allow leasing and signed a Finding of No Significant Impact.

Comments on the EA, FMV, and MER should address, but are not limited to the following factors:

1. The method of mining to be employed in order to obtain MER;

2. The method of determining FMV for the coal to be offered;

3. The quality and quantity of the coal resource;

4. If this resource is likely to be mined as part of an existing mine;

5. The price that the mined coal would bring when sold;

6. Costs, including mining and reclamation, of producing the coal and the times of production and impacts the leasehold may have on the area;

7. Depreciation and other tax accounting factors;

8. The percentage rate at which anticipated income streams should be discounted, either in the absence of inflation or with inflation, in which case the anticipated rate of inflation should be given;

9. Any comparable sales data of similar coal lands; and

10. Restrictions to mining which may affect coal recovery.

The values given above may or may not change as a result of comments received from the public and changes in market conditions between now and when final economic evaluations are completed.

As provided by 43 CFR 3422.1(a), proprietary data marked as confidential may be provided in response to this solicitation of public comments. Data so marked shall be treated in accordance with the laws and regulations governing the confidentiality of such information. A copy of the comments submitted by the public on FMV and MER, except those portions identified as proprietary and meeting exemptions stated in the Freedom of Information Act (FOIA), will be available for public inspection at the Bureau of Land Management office noted above.

If you wish to withhold your name or address from public review or from disclosure under the FOIA, you must state this prominently at the beginning of your written comments. Such requests will be honored to the extent allowed by the FOIA. All submissions from organizations, businesses and individuals identifying themselves as representatives or officials of organizations or businesses will be available for public inspection in its entirety.

David Stout,
Acting Associate State Director, Eastern States.

[FR Doc. E6-1870 Filed 2-9-06; 8:45 am]

BILLING CODE 4310-GJ-P